U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC on April 13, 2023 on “China's Pursuit of Defense Technologies: Implications for U.S. and Multilateral Export Control and Investment Screening Regimes.”

DATES: The hearing is scheduled for Thursday, April 13, 2023 at 9:30 a.m.

ADDRESSES: Members of the public will be able to attend in person at Dirksen Senate Office Building, Room 419 or view a live webcast via the Commission's website at www.uscc.gov. Visit the Commission's website for any further instructions or changes to the status of public access to Capitol grounds. Reservations are not required to view the hearing online or in person.

FOR FURTHER INFORMATION CONTACT: Any member of the public seeking further information concerning the hearing should contact Jameson Cunningham, 444 North Capitol Street NW, Suite 602, Washington, DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION:

Background: This is the fourth public hearing the Commission will hold during its 2023 report cycle. The hearing will start with China's motivations and policies for defense modernization, including overviews of its military procurement process and military-civil fusion strategy. Next, the hearing will evaluate how China is pursuing new materials, components, and technologies to address longstanding obstacles in domains such as space, aviation, and undersea warfare, as well as to gain supremacy in new domains such as artificial intelligence. Finally, the hearing will provide a forward-looking assessment of how Congress, the Administration, and U.S. allies and partners could improve export controls and investment screening to control technology flows to China for use in advanced weapons.

The hearing will be co-chaired by Chairman Carolyn Bartholomew and Vice Chairman Alex Wong. Any interested party may file a written statement by April 13, 2023 by transmitting to the contact above. A portion of the hearing will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: March 24, 2023.
Daniel W. Peck,
Executive Director, U.S.-China Economic and Security Review Commission.

[FR Doc. 2023-06506 Filed 3-28-23; 8:45 am]

BILLING CODE 1137-00-P